DEPARTMENT OF COMMERCE

National Oceanic and Atmospheric Administration

RIN: 0648-XL31

Mid-Atlantic Fishery Management Council; Public Meeting

AGENCY: National Marine Fisheries Service (NMFS), National Oceanic and Atmospheric Administration (NOAA), Commerce.

ACTION: Notice of public meeting.

SUMMARY: The Mid-Atlantic Fishery Management Council (MAFMC) Dogfish Monitoring Committee will hold a public meeting.

DATES: The meeting will be held on Friday, October 31, 2008, from 1 p.m. to 3 p.m.

ADDRESSES: The meeting will be held via conference call originating from the MAFMC office. The address for the MAFMC office is provided below. For those who cannot attend a call-in option is available. The call-in number is 1-866-422-9305. After dialing in, participants will be prompted to enter a “participant code”. That code is: 863 783 105 4. Members of the public are invited to listen in, however, the function of the meeting will be a technical review of scientific information. As such, the extent to which public remarks will be allowed will be limited by the moderator.

Council address: Mid-Atlantic Fishery Management Council, 300 S. New Street, Room 2115, Dover, DE 19904; telephone: (302) 674-2331.

FOR FURTHER INFORMATION CONTACT: Daniel T. Furlong, Executive Director, Mid-Atlantic Fishery Management Council, 300 S. New Street, Room 2115, Dover, DE 19904; telephone: (302) 674-2331, extension 19.

SUPPLEMENTARY INFORMATION: The purpose of this meeting is to review the ASMFC Technical Committee's recommendations for annual catch limits and accountability measures regarding specifying quotas and management measures for the upcoming 2009 fishing year for spiny dogfish. Management measures that will be discussed may include, but not necessarily be limited to, quotas and daily landings limits. Multiple-year management measures for fishing years 2010 and 2011 may also be addressed.

Although non-emergency issues not contained in this agenda may come before this group for discussion, in accordance with the Magnuson-Stevens Fishery Conservation and Management Act (Magnuson-Stevens Act), those issues may not be the subject of formal action during this meeting. Actions will be restricted to those issues specifically identified in this notice and any issues arising after publication of this notice that require emergency action under Section 305 (c) of the Magnuson-Stevens Act, provided the public has been notified of the Council's intent to take final action to address the emergency.

Dated: October 14, 2008.
Tracey L. Thompson,
Acting Director, Office of Sustainable Fisheries, National Marine Fisheries Service.

[FR Doc. E8-24715 Filed 10-16-08; 8:45 am]

BILLING CODE 3510-22-S